DEPARTMENT OF COMMERCE

National Oceanic and Atmospheric Administration

[I.D. 071202B]

Marine Mammals; File No. 779-1681

AGENCY: National Marine Fisheries Service (NMFS), National Oceanic and Atmospheric Administration (NOAA), Commerce.

ACTION: Receipt of application.

SUMMARY: Notice is hereby given that NMFS Southeast Fisheries Science Center (SEFSC), (Dr. Aleta Hohn, Principal Investigator), 75 Virginia Beach Drive, Miami, FL 33149, has applied in due form for a permit to take bottlenose dolphins for purposes of scientific research.

DATES: Written or telefaxed comments must be received on or before August 21, 2002.

ADDRESSES: The application and related documents are available for review upon written request or by appointment in the following office(s):

Permits, Conservation and Education Division, Office of Protected Resources, NMFS, 1315 East-West Highway, Room 13705, Silver Spring, MD 20910; phone (301)713-2289; fax (301)713-0376;

Northeast Region, NMFS, One Blackburn Drive, Gloucester, MA 01930-2298; phone (978)281-9200; fax (978)281-9371; and

Southeast Region, NMFS, 9721 Executive Center Drive North, St. Petersburg, FL 33702-2432; phone (727)570-5301; fax (727)570-5320.

FOR FURTHER INFORMATION CONTACT: Carrie Hubard or Ruth Johnson, (301)713-2289.

SUPPLEMENTARY INFORMATION: The subject permit is requested under the authority of the Marine Mammal Protection Act of 1972, as amended (MMPA; 16 U.S.C. 1361 et seq.)and the Regulations Governing the Taking and Importing of Marine Mammals (50 CFR part 216).

The SEFSC requests a Permit to take bottlenose dolphins (Tursiops truncatus) for scientific research. The impetus for the research is the need to define the stock structure of western North Atlantic bottlenose dolphins. The project is a continuation of research begun in 1997 to elucidate stock structure using multiple methods and to test the hypothesis of one coastal migratory stock of bottlenose dolphins along the Atlantic coast of the U.S. A maximum of 500 individual dolphins will be captured, examined, sampled, marked, and released during the 5 year period of the permit. Captures will take place in inshore and nearshore waters from New York to the Texas/Mexico border. As part of the research, the captured bottlenose dolphins will be sampled for genetic and isotope analyses, photographed for photo-id and will have transmitters attached.

In compliance with the National Environmental Policy Act of 1969 (42 U.S.C. 4321 et seq.), an initial determination has been made that the activity proposed is categorically excluded from the requirement to prepare an environmental assessment or environmental impact statement.

Written comments or requests for a public hearing on this application should be mailed to the Chief, Permits, Conservation and Education Division, F/PR1, Office of Protected Resources, NMFS, 1315 East-West Highway, Room 13705, Silver Spring, MD 20910. Those individuals requesting a hearing should set forth the specific reasons why a hearing on this particular request would be appropriate.

Comments may also be submitted by facsimile at (301)713-0376, provided the facsimile is confirmed by hard copy submitted by mail and postmarked no later than the closing date of the comment period. Please note that comments will not be accepted by e-mail or by other electronic media.

Concurrent with the publication of this notice in the Federal Register, NMFS is forwarding copies of this application to the Marine Mammal Commission and its Committee of Scientific Advisors.

Dated: July 16, 2002.
Eugene T. Nitta,
Acting Chief, Permits, Conservation and Education Division, Office of Protected Resources, National Marine Fisheries Service.

[FR Doc. 02-18442 Filed 7-19-02; 8:45 am]

BILLING CODE 3510-22-S